DEPARTMENT OF HEALTH AND HUMAN SERVICES

Centers for Disease Control and Prevention

Publication of Closed Meeting Summary of the Advisory Board on Radiation and Worker Health (ABRWH), National Institute for Occupational Safety and Health (NIOSH)

Committee Purpose: This board is charged with (a) providing advice to the Secretary, HHS, on the development of guidelines under Executive Order 13179; (b) providing advice to the Secretary, HHS, on the scientific validity and quality of dose reconstruction efforts performed for this Program; and (c) upon request by the Secretary, HHS, advise the Secretary on whether there is a class of employees at any Department of Energy facility who were exposed to radiation but for whom it is not feasible to estimate their radiation dose, and on whether there is reasonable likelihood that such radiation doses may have endangered the health of members of this class.

Background: The Advisory Board on Radiation and Worker Health met on May 17, 2004, in closed session to discuss the Proposed Independent Government Cost Estimate (IGCE) for the Board's Task Order contract and a submitted proposal of work. This contract, once awarded, will provide technical support to assist the Board in fulfilling its statutory duty to advise the Secretary of Health and Human Services regarding the dose reconstruction efforts under the Energy Employees Occupational Illness Compensation Program Act. A Determination to Close the meeting was approved and published, as required by the Federal Advisory Committee Act.

Summary of the Meeting: Attendance was as follows:

Board Members:

Paul L. Ziemer, Ph.D., Chair

Larry J. Elliott, Executive Secretary

Henry A. Anderson, M.D., Member

Roy L. DeHart, M.D., M.P.H., Member

Richard L. Espinosa, Member

Michael H. Gibson, Member

Mark A. Griffon, Member

James M. Melius, M.D., Dr.P.H., Member

Wanda I. Munn, Member

Charles L. Owens, Member

Robert W. Presley, Member

Genevieve S. Roessler, Ph.D., Member

NIOSH Staff: Martha DiMuzio, Cori Homer, Liz Homoki-Titus, and Jim Neton. Ray S. Green, Court Recorder.

Summary/Minutes: Dr. Ziemer called to order the Advisory Board on Radiation and Worker Health (ABRWH) in closed session on May 17, 2004 at 9:05 a.m. The purpose of the closed meeting was to discuss the Proposed IGCE for the Board's Task Order contract and a submitted proposal of work.

General topics discussed:

• Closed session procedures.

• IGCE for task proposals of the task order contract.

Dr. Paul Ziemer adjourned the closed session of the ABRWH meeting at 11:30 a.m. with no further business being conducted by the ABRWH.

Contact Person for More Information: Larry Elliott, Executive Secretary, ABRWH, NIOSH, CDC, 4676 Columbia Parkway, Cincinnati, Ohio 45226, telephone (513) 533-6825, fax (513) 533-6826.

The Director, Management Analysis and Services Office, has been delegated the authority to sign Federal Register notices pertaining to announcements of meetings and other committee management activities for both CDC and the Agency for Toxic Substances and Disease Registry.

Dated: July 1, 2004.
Alvin Hall,
Director, Management Analysis and Services Office, Centers for Disease Control and Prevention.

[FR Doc. 04-15505 Filed 7-7-04; 8:45 am]

BILLING CODE 4163-19-P